DEPARTMENT OF THE INTERIOR

Fish and Wildlife Service

[FWS-R2-NWRS-2020-N072; FVRS84510200000-20X-FF02R05000]

Notice of Receipt of Right-of-Way Application for Natural Gas Pipeline Crossing San Bernard National Wildlife Refuge

AGENCY: Fish and Wildlife Service, Interior.

ACTION: Notice of Receipt of Right-of-Way Application for Natural Gas Pipeline; request for comment.

SUMMARY: The U.S. Fish and Wildlife Service has received two applications for 30-year right-of-way permits from Baymark Pipeline LLC and South Texas NGL Pipeline LLC, respectively. The U.S. Fish and Wildlife Service will open the National Wildlife Refuge System lands, allowing for this infrastructure, under the authority of the National Wildlife Refuge System Administration Act. The U.S. Fish and Wildlife Service requests public comment on the permit applications and associated documents.

DATES: We must receive any written comments on or before January 19, 2021.

ADDRESSES: Send your comments or requests by any one of the following methods.

• Email: jennifer_sanchez@fws.gov (use “Enterprise ROW” as your subject line).

• Fax: 979-964-4021 (use “Enterprise ROW” as your subject line).

• U.S. mail: Project Leader, Texas Mid-coast Complex, U.S. Fish and Wildlife Service, 2547 County Road 316, Brazoria, TX 77422.

Public Availability of Comments

• Written comments we receive will become part of the public record associated with this action. Please be aware that your entire comment—including your personal identifying information, address, phone number, and email—may be made publicly available at any time. While you may request in your comment that we withhold your personal identifying information from public review, we cannot guarantee that we will be able to do so. All submissions from organizations or businesses, and from individuals identifying themselves as representatives or officials of organizations or businesses, will be made available for public disclosure in their entirety.

FOR FURTHER INFORMATION CONTACT: Jennifer Sanchez, 979-964-4011 (phone), or jennifer_sanchez@fws.gov (email). Individuals who are hearing or speech impaired may call the Federal Relay Service at 1-800-877-8339 for TTY assistance.

SUPPLEMENTARY INFORMATION: The U.S. Fish and Wildlife Service (Service), has received two applications for 30-year right-of-way (ROW) permits under the Mineral Leasing Act.

Applicants' Permit Proposals

Baymark Pipeline LLC and South Texas NGL Pipeline LLC have each requested a 30-ft-wide pipeline right-of-way across a 203-ft-long section of the San Bernard National Wildlife Refuge NWR in Brazoria County, Texas.

The applicants request ROW permits for the following pipelines:

Applicant | Pipeline description | Material to be transported
Baymark Pipeline LLC | 12-inch-diameter pipeline, steel | natural gas (ethylene).
South Texas NGL Pipeline LLC | 8-inch-diameter pipeline, steel | natural gas (propylene).

The ROW permits, if granted by the Service, would enable each respective applicant to construct, operate, maintain, and terminate an ethylene and propylene pipeline. The purpose of the new pipelines would be to transport ethylene and propylene through Matagorda, Brazoria, Galveston, and Harris Counties in Texas. The requested ROWs would be collocated within an existing 30-fit pipeline ROW that is used by Florida Gas and Lavaca to transport natural gas. The existing pipeline ROW is not an exclusive area; therefore, additional uses may be collocated within the same cleared corridor.

The applicants' pipelines would be installed by means of a conventional bore technique under refuge land; therefore, the construction would not require trenching on refuge lands. No additional permit boundaries beyond the existing ROW are required. The bore holes would be located 300 ft outside the refuge property line on adjacent private lands.

Next Steps

This notice informs the public that the Service will process the ROW permit applications from Baymark Pipeline LLC and South Texas NGL Pipeline LLC, which includes the preparation of the National Environmental Policy Act documentation along with terms and conditions of the right-of-way permit.

Authority

Applications for ROW for natural gas pipelines are to be filed in accordance with Section 28 of the Mineral Leasing Act of 1920 (30 U.S.C. Ch. 3A § 181), as amended, (41 Stat. 437, Pub. L. 66-146).

Amy Lueders,
Southwest Region Director, Interior Region 6, U.S. Fish and Wildlife Service.

[FR Doc. 2020-27752 Filed 12-16-20; 8:45 am]

BILLING CODE 4333-15-P